ENVIRONMENTAL PROTECTION AGENCY

40 CFR Part 300

[EPA-HQ-SFUND-1999-0013; FRL-9912-53-Region 2]

National Oil and Hazardous Substances Pollution Contingency Plan; National Priorities List: Deletion of the Federal Creosote Superfund Site

AGENCY: Environmental Protection Agency.

ACTION: Final rule.

SUMMARY: The Environmental Protection Agency (EPA) Region 2 announces the deletion of the Federal Creosote Superfund Site (Site) located in the Borough of Manville, New Jersey, from the National Priorities List (NPL). The NPL, promulgated pursuant to section 105 of the Comprehensive Environmental Response, Compensation, and Liability Act (CERCLA) of 1980, as amended, is an appendix of the National Oil and Hazardous Substances Pollution Contingency Plan (NCP). The EPA and the State of New Jersey, through the New Jersey Department of Environmental Protection, have determined that all appropriate response actions under CERCLA, other than long-term groundwater monitoring, and five-year reviews, have been completed. However, this deletion does not preclude future actions under Superfund.

DATES: This action is effective June 18, 2014.

ADDRESSES: Submit your comments, identified by Docket ID no. EPA-HQ-SFUND-1999-0013, by one of the following methods:

• http://www.regulations.gov. Follow on-line instructions for submitting comments.

• Email: puvogel.rich@epa.gov: Rich Puvogel, Remedial Project Manager; seppi.pat@epa.gov: Pat Seppi, Community Involvement Coordinator.

• Fax: (212) 637-4429.

• Mail:

Rich Puvogel, Remedial Project Manager, U.S. Environmental Protection Agency, Emergency & Remedial Response Division, 290 Broadway, 19th Floor, New York, NY 10007-1866;

or

Pat Seppi, Community Involvement Coordinator, U.S. Environmental Protection Agency, Public Affairs Division, 290 Broadway, 26th Floor, New York, NY 10007-1866.

• Hand delivery: U.S. Environmental Protection Agency, Emergency & Remedial Response Division, 290 Broadway, 19th Floor, New York, NY 10007-1866.

Such deliveries are only accepted during the Docket's normal hours of operation, and special arrangements should be made for deliveries of boxed information.

Instructions: Direct your comments to Docket ID no. EPA-HQ-SFUND-1999-0013. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: EPA has established a docket for this action under Docket Identification No. EPA-HQ-SFUND-1999-0013. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

U.S. Environmental Protection Agency, Region II, Superfund Records Center, 290 Broadway, Room 1828, New York, New York 10007-1866, (212) 637-4308, Hours: 9:00 a.m. to 5:00 p.m., Monday through Friday;

and at

Manville Public Library, 100 South 10th Avenue, Manville, New Jersey 08835, (908) 722-9722, Hours: Mon. through Fri.: 10:00 a.m. to 8:00 p.m.; Fri.: 10:00 a.m. to 5:30 p.m.; Sat.: 10:00 a.m. to 5:30 p.m.

FOR FURTHER INFORMATION CONTACT: Rich Puvogel, Remedial Project Manager, U.S. Environmental Protection Agency, Region II, 290 Broadway, 19th Floor, New York, New York 10007-1866, (212) 637-4410, or email puvogel.rich@epa.gov.

SUPPLEMENTARY INFORMATION: The site to be deleted from the NPL is: Federal Creosote Superfund Site, Manville, New Jersey. A Notice of Intent to Delete for this Site was published in the Federal Register at 79 FR 12436 on March 5, 2014.

The closing date for comments on the Notice of Intent to Delete was April 4, 2014. One comment was received. The comment suggested that a process be established to protect against potential future exposures to subsurface contaminants brought to the surface by redevelopment activities. Deed notices apply adequate restrictions on properties to protect against redevelopment activities that have the potential to deposit contaminated subsurface soils on the land surface. Deed notices, a required component of the selected remedy, have been implemented at the Federal Creosote Superfund Site. The selected remedy, which adequately protects human health and the environment, has been fully implemented and therefore satisfies the deletion criteria of the National Contingency Plan.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: June 1, 2014.
Judith A. Enck,
Regional Administrator, Region 2.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300—[Amended]

2. Table 1 of Appendix B to part 300 is amended by removing the entry for “NJ”, “Federal Creosote”, “Manville Borough”.

[FR Doc. 2014-14233 Filed 6-17-14; 8:45 am]

BILLING CODE 6560-50-P